DEPARTMENT OF ENERGY

Environmental Management Advisory Board; Meeting

AGENCY: Department of Energy.

ACTION: Notice of open meeting.

SUMMARY: This notice announces a meeting of the Environmental Management Advisory Board. The Federal Advisory Committee Act (Public Law 92-463, 86 Stat. 770) requires that public notice of these meetings be announced in the Federal Register.

DATES: Thursday, September 18th and Friday, September 19th, 2003.

ADDRESSES: U.S. Department of Energy, Forrestal Building, 1000 Independence Avenue SW., (Room 6E-069), Washington, DC 20585.

FOR FURTHER INFORMATION CONTACT: James T. Melillo, Executive Director of the Environmental Management Advisory Board, (EM-10), 1000 Independence Avenue SW., (Room 5B-171), Washington, DC 20585. The telephone number is 202-586-4400. The Internet address is james.melillo@em.doe.gov.

SUPPLEMENTARY INFORMATION: Purpose of the Board: The purpose of the Board is to provide the Assistant Secretary for Environmental Management (EM) with advice and recommendations on corporate issues confronting the Environmental Management Program. The Board will contribute to the effective operation of the Environmental Management Program by providing individual citizens and representatives of interested groups an opportunity to present their views on issues facing the Office of Environmental Management and by helping to secure consensus recommendations on those issues.

Tentative Agenda

Thursday, September 18, 2003

1 p.m. Public Meeting Open

—Welcome

—Opening Remarks

—Program Briefings

—EM Budget Briefings

5 p.m. Public Comment Period and Adjournment

Friday, September 19, 2003

9 a.m. Opening Remarks

—EMAB Project Team Updates

—Board Discussions

3 p.m. Public Comment Period and Adjournment

Public Participation: This meeting is open to the public. If you would like to file a written statement with the Board, you may do so either before or after the meeting. If you would like to make an oral statement regarding any of the items on the agenda, please contact Mr. Melillo at the address or telephone number listed above, or call the Environmental Management Advisory Board office at 202-586-4400, and we will reserve time for you on the agenda. Those who call in and or register in advance will be given the opportunity to speak first. Others will be accommodated as time permits. The Board Chair will conduct the meeting in a manner that permits the orderly conduct of business.

Minutes: We will make the minutes of the meeting available for public review and copying by December 20, 2003. The minutes and transcript of the meeting will be available for viewing at the Freedom of Information Public Reading Room (1E-190) in the Forrestal Building, U.S. Department of Energy, 1000 Independence Avenue, SW., Washington, DC 20585. The Room is open Monday through Friday from 9 a.m.-4 p.m. except on Federal holidays.

Issued in Washington, DC on August 19, 2003.
Rachel M. Samuel,
Deputy Advisory Committee Management Officer.

[FR Doc. 03-21546 Filed 8-21-03; 8:45 am]

BILLING CODE 6450-01-M